DEPARTMENT OF TRANSPORTATION

Federal Aviation Administration

Public Notice for Waiver of Aeronautical Land-Use Assurance; Pellston Regional Airport; Pellston, MI

AGENCY: Federal Aviation Administration, DOT.

ACTION: Notice of intent of waiver with respect to land.

SUMMARY: The Federal Aviation Administration (FAA) is considering a proposal to change a portion of the airport from aeronautical use to non-aeronautical use and to authorize the release of 621.46 acres of vacant airport property for the proposed development of warehouses, training centers, and associated access roads as a component of Sovereign Deed's National Response Center. The land consists of 7 parcels. Parcel 1 was acquired under grant 9-20-048-C905. Parcels 2, 3, 4, 5 and 8 were dedicated as airport property prior to 1946 and have no federal funding involvement. Parcel 7 was acquired under grants 9-2-048-C905 and 8-26-0076-01. There are no impacts to the airport by allowing the airport to lease the property. The land is not needed for aeronautical use. Approval does not constitute a commitment by the FAA to financially assist in the lease of the subject airport property nor a determination of eligibility for grant-in-aid funding from the FAA. The disposition of proceeds from the lease of the airport property will be in accordance with FAA's Policy and Procedures Concerning the Use of Airport Revenue, published in the Federal Register on February 16, 1999. In accordance with section 47107(h) of title 49, United States Code, this notice is required to be published in the Federal Register 30 days before modifying the land-use assurance that requires the property to be used for an aeronautical purpose.

DATES: Comments must be received on or before October 22, 2007.

ADDRESSES: Written comments on the Sponsor's request must be delivered or mailed to: Jason K. Watt, Program Manager, Detroit Airports District Office, 11677 South Wayne Road, Suite 107, Romulus, MI 48174.

FOR FURTHER INFORMATION CONTACT: Jason K. Watt, Program Manager, Federal Aviation Administration, Great Lakes Region, Detroit Airports District Office, DET ADO-614, 11677 South Wayne Road, Suite 107, Romulus, Michigan 48174. Telephone Number (734-229-2906)/FAX Number (734-229-2950). Documents reflecting this FAA action may be reviewed at this same location or at Pellston Regional Airport, Pellston, Michigan.

SUPPLEMENTARY INFORMATION:

Parcel 1 Legal Description

Part of the Northeast quarter of Section 29, Township 37 North Range 4 West, McKinley Township, Emmet County, Michigan, described as commencing at the Northeast corner of said section 29; thence South 00°53′52″ East along said section line 907.19 feet to the POINT OF BEGINNING; thence continuing South 00°53′52″ East along said section line 446.14 feet; thence North 89°47′53″ West 1304.56 feet to the East eighth line of said section; thence North 00°34′44″ West along the East eighth line 1353.20 feet to the North section line; thence South 89°47′53″ East along said section line 198.44 feet; thence South 53°32′29″ East 925.61 feet; thence South 45°35′01″ East 515.69 feet to the POINT OF BEGINNING.

Being a part of the Northeast quarter of Section 39, Township 37 North Range 4 West and containing 29.73 acres. Subject to easements and restrictions of record and subject to the rights of the public and any governmental unit in any part thereof taken, used or deeded for street, road or highway purposes.

Parcel 2 Legal Description

Part of section 28, Township 37 North Range 4 West, McKinley Township, Emmet County, Michigan, described as commencing at the Northwest corner of said section 28; thence South 00°53′52″ East along said section line 907.19 feet to the POINT OF BEGINNING; thence continuing South 45°35′01″ East 1234.50 feet; thence South 45°00′39″ East parallel to and 745 feet Southwesterly of the center line of runway 14/32 2604.99 feet; thence South 45°00′13″ West parallel with and 495 feet Northwesterly of the center line of runway 5/23 884.29 feet; thence South 38°57′34″ West 406.35 feet; thence South 45°24′14″ East 469.58 feet; thence South 43°08′52″ West 216.53 feet; thence North 46°51′08″ West 554.62 feet; thence North 56°53′28″ West 442.54 feet; thence North 41°08′01″ West 1012.07 feet; thence North 73°33′18″ West 571.29 feet to the West section line of said section; thence North 00°53′52″ West along said section line 2589.85 feet to the POINT OF BEGINNING.

Being a part of section 28, Township 37 North Range 4 West and containing 114.33 acres. Subject to easements and restrictions of record and subject to the rights of the public and any governmental unit in any part thereof taken, used or deeded for street, road or highway purposes.

Parcel 3 Legal Description

Part of section 33, Township 37 North Range 4 West, McKinley Township, Emmet County, Michigan, described as BEGINNING at the Southwest corner of said section 33; thence North 00°17′05″ West along said section line 2653.81 feet to the quarter corner common to sections 32 and 33; thence North 00°09′30″ East along said section line 2595.44 feet; thence South 89°50′30″ East 75.51 feet; thence South 53°49′19″ East 474.49 feet; thence South 76°52′38″ East 406.85 feet; thence South 53°04′07″ East 939.31 feet; thence South 32°44′38″ East 861.74 feet; thence South 45°25′48″ East 1337.90 feet to the East and West quarter line of said section; thence North 89°53′55″ West along said quarter line 386.56 feet to the center quarter corner of said section; thence South 00°17′11″ West 1319.66 feet the South eighth line of said section; thence South 89°56′39″ West along the South eighth line 1316.11 feet; thence South 00°00′00″ West 1323.7 feet to the South section line of said section; thence South 89°47′08″ West 1309.53 feet to the POINT OF BEGINNING. Being a part of section 33, Township 37 North Range 4 West and containing 224.69 acres. Subject to easements and restrictions of record and subject to the rights of the public and any governmental unit in any part thereof taken, used or deeded for street, road or highway purposes.

Parcel 4 Legal Description

Part of sections 28, 33, and 34 of Township 37 North Range 4 West, McKinley Township, Emmet County, Michigan, described as BEGINNING at the quarter corner common to sections 33 and 34; thence North 89°53′55″ West 1273.16 feet; thence North 21°58′52″ East 318.93 feet; thence North 17°05′27″ West 437.62 feet; thence North 43°50′18″ West 1054.05 feet; thence North 43°49′43″ West 1296.14 feet; thence North 46°51′08″ West 548.82 feet; thence North 43°08′52″ East 216.53 feet; thence South 45°24′14″ East 704.93 feet; thence North 63°12′29″ East 396.10 feet; thence North 52°27′49″ East 776.25 feet; thence South 45°21′34″ East 3984.18 feet; thence North 89°54′03″ East 138.29 feet; thence South 44°26′16″ East 419.59 feet to the East & West quarter line of section 34; thence South 89°54′17″ West along the East & West quarter line 1575.63 feet to the POINT OF BEGINNING.

Being a part of sections 28, 33 and 34, Township 37 North Range 4 West and containing 131.16 acres. Subject to easements and restrictions of record and subject to the rights of the public and any governmental unit in any part thereof taken, used or deeded for street, road or highway purposes.

Parcel 5 Legal Description

Part of the North half of section 28 and part of the Northwest quarter of section 27 of Township 37 North Range 4 West, McKinley Township, Emmet County, Michigan, described as BEGINNING at the section corner common to sections 21, 22, 27 and 28; thence North 88°56′59″ East along the section line common to sections 22 and 27 1095.01 feet; thence South 51°04′47″ West 331.61 feet; thence South 45°00′13″ West parallel with and 495 feet Northwest of the center line of runway 5/23 2676.25 feet; thence North 45°00′38″ West parallel with and 1494.74 feet Northeasterly of the center line of runway 14/32 2900.31 feet to the section line common to sections 21 and 28; thence North 89°24′26″ East along said section line 417.95 feet to the quarter corner common to sections 21 and 28; thence South 81°47′10″ East 648.03 feet; thence North 81°28′10″ East 710.97 feet to the section line common to sections 21 and 28; thence North 89°27′04″ East 1344.55 feet to the POINT OF BEGINNING.

Being a part of the North half of section 28 and part of the Northwest quarter of section 27 of Township 37 North Range 4 West and containing 97.15 acres. Subject to easements and restrictions of record and subject to the rights of the public and any governmental unit in any part thereof taken, used or deeded for street, road or highway purposes.

Parcel 7 Legal Description

Part of the Southwest quarter of the Southwest quarter of section 21 of Township 37 North Range 4 West, McKinley Township, Emmet County, Michigan, described as commencing at the Southwest corner of said section 21; thence North 89°27′04″ East along said section line 1234.61 feet to the POINT OF BEGINNING; thence North 44°26′16″ West 729.13 feet; thence North 36°28′48″ West 978.82 feet to the South eighth line of said section; thence North 89°29′26″ East along the South eighth line 1199.81 feet to the West eighth line of said section; thence South 00°06′48″ East along said eighth line 1317.26 feet to the South section line of said section; thence South 89°27′04″ West 109.93 feet to the POINT OF BEGINNING.

Being a part of the Southwest quarter of section 21, Township 37 North Range 4 West and containing 20.94 acres. Subject to easements and restrictions of record and subject to the rights of the public and any governmental unit in any part thereof taken, used or deeded for street, road or highway purposes.

Parcel 8 Legal Description

Part of the Southwest quarter of section 28 and part of the Northwest quarter of section 33, Township 37 North Range 4 West, McKinley Township, Emmet County, Michigan, described as commencing at the section corner common to sections 28, 29, 32 and 33; thence South 00°09′30″ West along the section line common to sections 32 and 33 55.06 feet; thence South 89°50′30″ East 75.51 feet; thence South 53°49′19″ East 474.49 feet; thence South 76°52′38″ East 406.85 feet; thence South 53°04′07″ East 128.03 feet to the POINT OF BEGINNING; thence North 02°51′25″ East 303.39 feet; thence North 46°48′37″ East 349.40 feet; thence South 89°51′15″ East 833.91 feet; thence South 46°51′08″ East 146.63 feet; thence North 89°50′07″ West 901.10 feet; thence South 46°48′3.7″ West 263.25 feet; thence South 03°07′41″ West 337.32 feet; thence North 53°04′06″ West 124.25 feet to the POINT OF BEGINNING.

Being a part of the Southwest quarter of section 28 and part of the Northwest quarter of section 33, Township 37 North Range 4 West and containing 3.46 acres. Subject to easements and restrictions of record and subject to the rights of the public and any governmental unit in any part thereof taken, used or deeded for street, road or highway purposes.

Issued in Romulus, Michigan on September 10, 2007.
Brad N. Davidson,
Acting Manager, Detroit Airports District Office, FAA, Great Lakes Region.

[FR Doc. 07-4650 Filed 9-19-07; 8:45 am]

BILLING CODE 4910-13-M